DEPARTMENT OF HEALTH AND HUMAN SERVICES

Indian Health Service

Notice of Tribal Consultation and Urban Confer Sessions on the State of the Great Plains Area Indian Health Service; Extension of Comment Period

AGENCY: Indian Health Service, HHS.

ACTION: Notice; extension of comment period.

SUMMARY: This document extends the comment period in the Notice of Tribal Consultation and Urban Confer Sessions on the State of the Great Plains Area Indian Health Service announcement that was published in the Federal Register on June 3, 2016.

DATES: The comment period has been extended to November 30, 2016.

FOR FURTHER INFORMATION CONTACT: Roselyn Tso, Acting Director, Office of Direct Service and Contracting Tribes, Indian Health Service, 5600 Fishers Lane, Mail Stop 08E17, Rockville, MD 20857, telephone (301) 443-1104. (This is not a toll-free number.)

Dated: September 16, 2016.
Mary Smith,
Principal Deputy Director, Indian Health Service.

[FR Doc. 2016-22922 Filed 9-22-16; 8:45 am]

BILLING CODE 4165-16-P